DEPARTMENT OF DEFENSE

Department of the Army; Corps of Engineers

Adoption of Alternative Arrangements Under the National Environmental Policy Act for New Orleans Hurricane and Storm Damage Reduction System

AGENCY: Department of the Army, U.S. Army Corps of Engineers, DoD.

ACTION: Public notice.

SUMMARY: The U.S. Army Corps of Engineers (USACE), Mississippi Valley Division, New Orleans District (CEMVN) is implementing Alternative Arrangements under the provisions of the Council on Environmental Quality Regulations for Implementing the National Environmental Policy Act (NEPA) (40 CFR 1506.11) in order to expeditiously complete environmental analysis of major portions of a new 100-year level of Hurricane and Storm Damage Reduction effort authorized and funded by the Administration and the Congress. The proposed actions are located primarily in southern Louisiana and relate to the Federal effort to rebuild the Hurricane and Storm Damage Reduction system following Hurricanes Katrina and Rita.

The USACE consultation with the Council on Environmental Quality (CEQ), as required under 40 CFR 1506.11 and the USACE Environmental Quality Procedures for Implementing the NEPA (33 CFR 230), concluded on February 23, 2007 with the CEQ approving the Alternative Arrangements. The Alternative Arrangements request was also coordinated with the U.S. Fish and Wildlife Service, National Marine Fisheries Service, Environmental Protection Agency, Advisory Council on Historic Preservation, Department of Homeland Security-Federal Emergency Management Agency, Louisiana Department of Wildlife and Fisheries, Louisiana Department of Natural Resources, Louisiana Department of Environmental Quality and the Louisiana State Historic Preservation Officer.

During the consultation, the USACE and CEQ hosted four public meetings in New Orleans metropolitan area to assess the request and gather input on the proposed Alternative Arrangements. The input received during the course of the discussions and meetings provided strong support for Alternative Arrangements that allow for expedited decisions on actions to lower the risk of floods and that restore public confidence in the hurricane storm reduction system so that the physical and economic recovery of the area can proceed as citizens return and rebuild. It was also made clear that the Alternative Arrangements should provide the USACE a way to proceed that complements other ongoing and proposed hurricane protection and coastal restoration efforts.

These Alternative Arrangements apply to certain proposed actions included in the 100-year Hurricane and Storm Damage Reduction measures authorized under Public Law 109-234, Emergency Supplemental Appropriations Act for Defense, the Global War on Terror, and Hurricane Recovery, 2006 (4th Supplemental). The Alternative Arrangements will allow decisions on smaller groups of proposed actions to move forward sooner than under the traditional NEPA process. An in-depth analysis and consideration of potential environmental impacts will be completed and negative environmental impacts will be addressed. Detailed information on the Alternative Arrangements can be downloaded from the USACE New Orleans District Web site at: http://www.mvn.usace.army.mil/pd/Envir_Processes_NEPA/Index.htm.

DATES: See SUPPLEMENTARY INFORMATION section for meeting dates.

ADDRESSES: See SUPPLEMENTARY INFORMATION section for meeting addresses.

FOR FURTHER INFORMATION CONTACT: Questions concerning the emergency Alternative Arrangements should be addressed to Gib Owen at U.S. Army Corps of Engineers, PM-RS, P.O. Box 60267, New Orleans, LA 70160-0267, phone (504) 862-1337, fax number (504) 862-2088 or by e-mail at mvnenvironmentalpd@mvn02.usace.army.mil.

SUPPLEMENTARY INFORMATION:

The Emergency Alternative Arrangement Process: In order to meet the needs of the people of southern Louisiana in a timely manner that is appropriate to the level of imminent threat, CEMVN will comply with the NEPA by using the following emergency Alternative Arrangements.

1. CEMVN is placing this public notice of the NEPA Alternative Arrangements in the Federal Register along with a description of the proposed actions that will be analyzed in Individual Environmental Reports (IERs) and a Comprehensive Environmental Document (CED).

2. Scoping Process: a. This Federal Register notice is initiating the scoping process with a thirty-day public comment period for the IERs described in this notice. CEMVN will also host a series of public scoping meetings, followed by thirty-day comment periods, in the New Orleans metropolitan area to gather public comments on the proposed actions. Additional scoping meetings may be conducted in other locales in the United States if deemed necessary.

b. Concurrent with this Federal Register notice, CEMVN is placing public notices in broadcast media, local newspapers and a newspaper with national distribution publicizing the dates and location of the public scoping meetings, describing each proposed action that will be analyzed in the IERs, and providing thirty days for written comments to be mailed, faxed, or e-mailed to a point of contact at CEMVN. The information for each proposed action will also be mailed and e-mailed to all interested stakeholders, including state and Federal resource agencies. The Corps will make its best effort to reach the citizens of New Orleans, including, to the extent feasible, persons who have relocated to other areas. The comments received will be compiled and e-mailed to appropriate Federal and state agencies for coordination.

c. CEMVN will establish and maintain a Web page that provides details for each IER and other proposed actions being investigated or projects that are being constructed in the area by the USACE. The Web site will contain a description of the Alternative Arrangements CEMVN is following to achieve NEPA compliance. Additionally, information or links from other Federal and state agencies conducting operations in the New Orleans area will be available on this Web site. This will include, where available, links to proposed actions and ongoing environmental analyses, and references and available links to environmental analyses previously conducted in the area.

d. Interagency environmental teams are being established for each IER. Federal and state agency, local governmental and tribal staff will play an integral part in the project planning and alternative analysis. Interagency teams will be integrated with USACE Project Delivery Teams to assist in the planning of each proposed action and in the description of the potential direct and indirect impacts of each proposed action that will be used in the development of any needed mitigation plans. Team members will be provided with new information concerning the proposed action as quickly as possible in order to allow for the expedient review and analysis of each proposed action. Teams will rely heavily upon hydrologic models and the best engineering judgment of CEMVN Engineering Division staff to develop appropriate mitigation plans.

e. CEMVN will hold monthly meetings with agencies to communicate overall developments and allow for agency feedback. All proposed work would be closely coordinated with the ongoing Federal and state efforts to design a coastal restoration and protection plan.

f. CEMVN will host monthly public meetings during the preparation and completion of the IERs and CED included in these Alternative Arrangements. The monthly meetings will keep the stakeholders advised of IER and CED developments and provide the public opportunities to comment during the meetings and to submit written comments after each meeting for a 30-day period. Meetings will be advertised at least one week prior to each meeting and meeting times and locations will be selected to accommodate public availability.

3. CEMVN will actively involve the Federal and state agencies, local governments, tribes, and the public in mitigation planning for unavoidable impacts at the onset of the planning process. Quantitative analysis of the acreages, by habitat type, determined to be potentially impacted directly or indirectly by each reasonable alternative will be prepared. Proposed actions to mitigate adverse environmental effects and mitigation plans will be based upon existing methodologies utilized for water resource planning and analyzed in one or more IERs that will consider reasonable mitigation alternatives, including pooling compensatory mitigation, consistent with proposed coastal restoration initiatives. It is CEMVN's intent to implement compensatory mitigation as early as possible in the process once unavoidable impacts are determined. All mitigation activities will be consistent with standards and policies established in the Clean Water Act Section 404 and the appropriate USACE policies and regulations governing this activity.

4. Prior to any decision to proceed with proposed actions, CEMVN will complete an IER that documents the decision-making process followed by the USACE, the preferred and all other reasonable alternatives, the alternatives analyses that were performed, the direct and indirect impacts of the proposed action, an initial description of the cumulative impacts of the proposal, an initial mitigation plan, and any interim decisions made by the USACE. Each IER will identify areas where data was incomplete, unavailable, and areas of potential controversy. Alternatives analysis will be based upon a geographic segment of the area that is large enough to encompass any impacts directly and indirectly attributable to the proposed action.

5. The IERs will be posted on the USACE CEMVN Alternative NEPA Arrangement Web page for a 30-day public review and comment period. A notice of availability will be mailed/e-mailed to interested parties advising them of the availability of the IER for review in addition to placing a notice in newspapers and other media selected to reach residents of New Orleans including those who have relocated to other areas. The IERs will also be made available during the monthly public meetings.

6. Public meetings to discuss a specific IER will be held if requested by the stakeholders involved in the review process. Upon completion of the comment period, and after any meetings, an IER addendum responding to comments received will be completed and published for a 30-day public review period. Notice will be provided in newspapers and other media, posted on the Web site, and a notice of availability mailed/e-mailed to interested parties.

No sooner than 30 days after publication of the IER addendum, or an IER in the event no comments or requests for meetings are received during the public review and comment period, the District Commander will issue a decision describing how USACE will proceed.

7. At a time when sufficient information is available from IERs analyzing proposed actions in the New Orleans area, CEMVN will produce a draft Comprehensive Environmental Document (CED). The CED will incorporate the IERs by reference and address the work completed and the work remaining to be completed on a systemwide scale and a final mitigation plan. Updated information for any IER, or IER addendum, that had incomplete or unavailable data at the time the District Commander made a decision on how to proceed will be provided and the CED will identify any new information associated with long term operations and maintenance of the approved actions analyzed in the IERs. The CED will include a discussion of how the individual IERs are integrated into a systematic planning effort. A cumulative effects analysis will analyze any indirect impacts due to altered hydrology or induced development that resulted from the actions taken by the USACE and the relationship of the proposed actions covered in the IERs with other proposed and reasonably foreseeable proposals for hurricane protection measures located within the Lake Pontchartrain and West Bank Hurricane Project areas and proposed and reasonably foreseeable proposals for hurricane protection and coastal restoration measures identified in the Louisiana Coastal Protection and Restoration Study and the Coastal Protection and Restoration Authority of Louisiana's Master Plan. An external engineering peer review of the proposed levees and floodwalls work analyzed in the IERs will be made available as soon as practicable and no later than publication of the draft CED.

8. The draft CED will be posted on the USACE web page for a 60-day public review period. A notice of availability will be posted on the Web site and mailed/e-mailed to interested parties advising them of the availability of the draft CED for review in addition to placing a notice in newspapers and other media. Public meetings would be held during the review period if requested by the stakeholders involved in the process.

9. Upon completion of the 60-day review period, all comments will be appropriately addressed in a final CED. The final CED will be published for a 30-day public review period. Notice will be provided in newspapers and other media, posted on the Web site, and a notice of availability will be mailed/e-mailed out to interested parties.

No sooner than 30 days after publication of the final CED, the District Commander will issue a decision describing how CEMVN will proceed. This decision will be made available to stakeholders by posting it to a Web site, mailing/e-mailing notices of availability, public notices in newspapers and news releases to other media such as radio and television stations.

Description of Proposed Actions: CEMVN will analyze the proposed hurricane and storm damage reduction actions for the sub-basins within the Lake Pontchartrain and Vicinity (LPV) and West Bank and Vicinity (WBV) Hurricane Protection Project areas in a series of IERs. Each IER will identify the proposed actions and will investigate alternatives, direct, indirect, cumulative impacts, and mitigation for impacts to the human environment. Exact alignments and work to be completed will be determined as a part of the NEPA process. IERs will also be prepared for proposed borrow material and mitigation plans. Further information on the IER's can be downloaded from the USACE New Orleans District Web site at: http://www.mvn.usace.army.mil/pd/Envir_Processes_NEPA/Index.htm.

IER 1: LPV, LaBranche Wetlands Levee, St. Charles Parish, LA—Proposed action: Rebuilding of 8.7 miles of earthen levees, replacement of 6,400 linear feet of floodwalls, and fronting protection to five existing drainage structures.

IER 2: LPV, West Return Floodwall Jefferson—St. Charles Parish, LA—Proposed action: Replacement of 17,900 linear feet of floodwalls.

IER 3: LPV, Lakefront Levee Jefferson Parish, LA—Proposed action: Rebuilding of 9.5 miles of earthen levees, upgrading foreshore protection, replacement of two floodgates, and fronting protection to four pump stations.

IER 4: LPV, New Orleans Lakefront Levee, West of Inner Harbor Navigational Canal, Orleans Parish, LA—Proposed action: Rebuilding of 4.4 miles of earthen levee, replacement of 7,600 feet of floodwalls, 16 vehicle access gates, and one sector gate.

IER 5: LPV, Outfall Canal Closure Structures, 17th Street Canal, Orleans Avenue Canal and London Avenue Canal, Orleans Parish, LA—Proposed action: Construction of pump stations and closure structures on the three outfall canals.

IER 6: LPV, Citrus Lakefront Levee, Orleans Parish, LA—Proposed action: Rebuilding of 4.1 miles of earthen levees, replacement of 10,662 linear feet of floodwalls, and four floodgates.

IER 7: LPV, New Orleans East Levee, Maxent Canal to Michoud Slip, Orleans Parish, LA—Proposed action: Rebuilding of 19.1 miles of earthen levee and replacement of three floodgates.

IER 8: LPV, Bayou Bienvenue and Bayou Dupre Control Structures, St. Bernard Parish, LA—Proposed action: Replacement of 1,000 linear feet of floodwalls and two navigable floodgates.

IER 9: LPV, Caernarvon Floodwall, St. Bernard Parish, LA—Proposed action: Replacement of two floodgates, replacement of 1,500 feet of floodwall, and possible realignment of levee.

IER 10: LPV, Chalmette Loop Levee, St. Bernard Parish, LA—Proposed action: Rebuilding of 22 miles of earthen levees and the replacement of 1,500 linear feet of floodwalls.

IER 11: LPV, Inner Harbor Navigation Canal Navigable Floodgates, Orleans and St. Bernard Parishes, LA—Proposed action: Construction of gated navigable closure structures to protect the Inner Harbor Navigation Canal.

IER 12: WBV, Harvey and Algiers Canal Levee and Floodwalls, Jefferson, Orleans, and Plaquemines Parishes, LA—Proposed action: Rebuilding of 31 miles of earthen levees, replacement of 18,800 linear feet of floodwalls, modifications to 18 existing gates, and fronting protection modifications to nine pump stations.

IER 13: WBV, Hero Canal Levee and Eastern Terminus, Plaquemines Parish, LA—Proposed action: Rebuilding of 22,000 linear feet of earthen levees and construction of 1,500 linear feet of floodwalls.

IER 14: WBV, Harvey to Westwego Levee, Jefferson Parish, LA—Proposed action: Rebuilding of 12 miles of earthen levee, construction of 7,013 linear feet of floodwalls, and modifications to three pump stations.

IER 15: WBV, Lake Cataouatche Levee, Jefferson Parish, LA—Proposed action: Rebuilding of 8 miles of earthen levee and fronting protection at one pump station.

IER 16: WBV, Western Terminus Levee, Jefferson Parish, LA—Proposed action: Construction of western terminus earthen levee section.

IER 17: WBV, Company Canal Floodwall, Jefferson Parish, LA—Proposed action: Replacement of 13,442 linear feet of floodwalls and fronting protection for two pump stations.

IER 18: Borrow, Government Furnished, Multiple sites—Proposed action: Analyze information supplied from a variety of governmental sources to determine appropriate Government Furnished borrow locations. Sources could be from sites throughout southeast Louisiana.

IER 19: Borrow, Pre-Approved Contractor Furnished, Multiple sites—Proposed action: Analyze information supplied from a variety of non-governmental sources to determine appropriate Pre-Approved Contractor Furnished borrow locations. Sources could be from sites throughout the southern United States.

IER 20: LPV, Mitigation Pool—Proposed action: Analyze alternatives to determine appropriate mitigation is implemented for unavoidable impacts to the human environment.

IER 21: WBV, Mitigation Pool—Proposed action: Analyze alternatives to determine appropriate mitigation is implemented for unavoidable impacts to the human environment.

Scoping Meeting Schedule

All nine of the meetings start at 7 p.m. and are scheduled to conclude at 9 p.m. Dates and locations of the meetings are as follows:

March 27, 2007—Lake Cataouatche Sub-Basin: Lake Cataouatche/Jefferson Parish Dougie V's Restaurant—Banquet Hall, 13899 River Road, Luling, LA

March 28, 2007—Harvey-Westwego Sub-Basin: Westwego City Council Chamber, 419 Avenue A, Westwego, LA

March 29, 2007—St. Charles Parish Sub-Basin: American Legion Hall, Post 366, 12188 River Road, St. Rose, LA

April 3, 2007—Gretna-Algiers Sub-Basin: Our Lady of Holy Cross College, 4123 Woodland Drive, New Orleans, LA

April 4, 2007—Chalmette Loop Sub-Basin: 8201 West Judge Perez Road, Chalmette, LA

April 5, 2007—Jefferson East Bank Sub-Basin: Jefferson Parish Regional Library, 4747 W. Napoleon Avenue, Metairie, LA

April 10, 2007—Belle Chasse Sub-Basin: Belle Chasse Auditorium, 8398 Highway 23, Belle Chasse, LA

April 11, 2007—New Orleans East Sub-Basin: Avalon Hotel & Conference Center, 830 Conti Street, New Orleans, LA

April 12, 2007—Orleans East Bank Sub-Basin: National WWII Museum, 945 Magazine Street, New Orleans, LA

Coordination: The USACE will continue to obtain concurrence, permits, and any other authorizations necessary to be in compliance with all other environmental laws prior to the initiation of any proposed actions. This includes, but is not limited to, complying with section 7 of the Endangered Species Act, the National Historic Preservation Act, the Clean Water Act, the Coastal Zone Management Act, and the Magnuson-Stevens Act.

Dated: March 2, 2007.
Richard P. Wagenaar,
Colonel, U.S. Army, District Commander.

[FR Doc. E7-4515 Filed 3-12-07; 8:45 am]

BILLING CODE 3710-84-P